DEPARTMENT OF ENERGY

Federal Energy Regulatory Commission

[Docket No. AD20-9-000]

Hybrid Resources; Notice of Technical Conference

Take notice that Federal Energy Regulatory Commission (Commission) staff will convene a technical conference to discuss technical and market issues prompted by growing interest in projects that are comprised of more than one resource type at the same plant location (hybrid resources). For purposes of this inquiry, we will be focusing on a generation resource and an electric storage resource paired together as a hybrid resource. Commissioners may participate in the technical conference.

The technical conference will be held on Thursday, July 23, 2020 from approximately 9:00 a.m. to 5:00 p.m. Eastern Time. The technical conference will be held either in-person at the Commission's headquarters at 888 First Street NE, Washington, DC 20426 in the Commission Meeting Room (with a WebEx option available) or solely via teleconference (over WebEx). A supplemental notice will be issued prior to the technical conference with further details regarding the agenda and organization, whether it will be held in-person or via teleconference, and if there are changes to the date or time of the technical conference.

Individuals interested in participating as panelists should submit a self-nomination form by 5:00 p.m. on Friday, May 15, 2020 at: https://www.ferc.gov/whats-new/registration/07-23-20-speaker-form.asp. Individuals who are interested in registering for the conference can do so here: https://www.ferc.gov/whats-new/registration/07-23-20-form.asp.

For more information about this technical conference, please contact Kaitlin Johnson, 202-502-8542, kaitlin.johnson@ferc.gov for technical questions or Sarah McKinley, 202-502-8368, sarah.mckinley@ferc.gov for logistical issues.

Dated: April 7, 2020.
Nathaniel J. Davis, Sr.,
Deputy Secretary.

[FR Doc. 2020-07689 Filed 4-10-20; 8:45 am]

BILLING CODE 6717-01-P